DEPARTMENT OF INTERIOR

Fish and Wildlife Service

FWS-R8-ES-2008-N0001; ABC Code: 81420-1113-0000-F3]

Proposed Safe Harbor Agreement for Serpentine Endemic Species Located on Tulare Hill in Santa Clara County, CA

AGENCY: Fish and Wildlife Service, Interior.

ACTION: Notice of availability; receipt of application.

SUMMARY: This notice advises the public that Pacific Gas and Electric Company (Applicant) has applied to the U.S. Fish and Wildlife Service (Service) for an enhancement of survival permit pursuant to section 10(a)(1)(A) of the Endangered Species Act of 1973, as amended (Act). The permit application includes a proposed Safe Harbor Agreement (Agreement) between the Applicant and the Service for the federally-threatened bay checkerspot butterfly (Euphydryas editha bayensis), the federally-endangered Metcalf Canyon jewelflower (Streptanthus albidus albidus), and the federally-threatened Santa Clara Valley dudleya (Dudleya setchellii). The Agreement is available for public comment.

DATES: Written comments should be received on or before March 26, 2008.

ADDRESSES: Comments should be addressed to Mr. Rick Kuyper, U.S. Fish and Wildlife Service, Sacramento Fish and Wildlife Office, 2800 Cottage Way, W-2605, Sacramento, California 95825. Written comments may be sent by facsimile to (916) 414-6713.

FOR FURTHER INFORMATION CONTACT: Mr. Rick Kuyper, Sacramento Fish and Wildlife Office (see ADDRESSES); telephone: (916) 414-6600.

SUPPLEMENTARY INFORMATION:

Availability of Documents

You may obtain copies of the documents for review by contacting the individual named above. You may also make an appointment to view the documents at the above address during normal business hours.

Background

Under a Safe Harbor Agreement, participating landowners voluntarily undertake management activities on their property to enhance, restore, or maintain habitat benefiting species listed under the Act (16 U.S.C. 1531 et seq.). Safe Harbor Agreements, and the subsequent enhancement of survival permits that are issued pursuant to section 10(a)(1)(A) of the Act, encourage private and other non-Federal property owners to implement conservation efforts for listed species by assuring property owners that they will not be subjected to increased property use restrictions as a result of their efforts to attract listed species to their property, or to increase the numbers or distribution of listed species already on their property. Application requirements and issuance criteria for enhancement of survival permits through Safe Harbor Agreements are found in 50 CFR 17.22(c).

The Service has worked with the Applicant to develop the proposed Agreement for the conservation of the bay checkerspot butterfly, the Metcalf Canyon jewelflower, and the Santa Clara Valley dudleya on Tulare Hill (Enrolled Property) in Santa Clara County, California. The 45-acre Enrolled Property subject to this Agreement is located on serpentine soil. In order to benefit the bay checkerspot butterfly for the duration of this Agreement, the Applicant proposes to allow cattle grazing on the Enrolled Property. The Service expects that the proposed grazing activities will result in an increase in host plants for the bay checkerspot butterfly throughout the Enrolled Property thus resulting in a net conservation benefit for the bay checkerspot butterfly. Grazing may impact the Metcalf Canyon jewelflower and the Santa Clara Valley dudleya. The Agreement includes a monitoring component that will aid managers in selecting grazing management strategies that maintain bay checkerspot butterfly habitat while not adversely affecting these two listed plant species.

This Agreement provides for the restoration, enhancement, and management of serpentine habitat suitable for the bay checkerspot butterfly, the Metcalf Canyon jewelflower, and the Santa Clara Valley dudleya on the Enrolled Property. The proposed duration of the Agreement is 5 years, and the proposed term of the enhancement of survival permit is 30 years. When fully implemented, the Agreement and requested enhancement of survival permit will allow the Applicant to return to baseline after the end of the 5-year term of the Agreement and prior to the expiration of the 30-year permit, if so desired by the Applicant. The Agreement fully describes the management activities to be undertaken by the Applicant, and the net conservation benefits expected to the bay checkerspot butterfly, the Metcalf Canyon jewelflower, and the Santa Clara Valley dudleya.

Upon approval of this Agreement, and consistent with the Service's Safe Harbor Policy published in the Federal Register on June 17, 1999 (64 FR 32717), the Service would issue a permit to the Applicant authorizing take of the bay checkerspot butterfly incidental to the implementation of the management activities specified in the Agreement, incidental to other lawful uses of the Enrolled Property including normal, routine land management activities, and to return to pre-Agreement conditions (baseline). The Service does not authorize incidental take for federally-listed plant species in accordance with the Act, and only renders a jeopardy/non-jeopardy determination in the biological opinion.

The Applicant proposes to set the baseline level for the covered wildlife species (the bay checkerspot butterfly) with two measures. The first will be simply whether the property is grazed or not grazed, as grazing is recognized as an effective management tool for serpentine grasslands (USFWS 1998). The second will be based on a 2006 vegetation cover assessment of the Enrolled Property. Because of inherent variation in the annual occupancy rates and structure of the bay checkerspot butterfly metapopulation, baseline conditions may be best described in terms of available habitat. Baseline conditions for the Santa Clara Valley dudleya are defined as the number of individual occurrences based on the 2006 data. Baseline levels for the Metcalf Canyon jewelflower will be set at zero because there are no recent records of this species on Tulare Hill.

Public Review and Comments

The Service has made a preliminary determination that the proposed Agreement and permit application are eligible for categorical exclusion under the National Environmental Policy Act of 1969 (NEPA). We explain the basis for this determination in an Environmental Action Statement that is also available for public review.

Individuals wishing copies of the Environmental Action Statement, and/or copies of the full text of the Agreement, including a map of the proposed permit area, should contact the office and personnel listed in the ADDRESSES section above.

If you wish to comment on the Agreement, you may submit your comments to the address listed in the ADDRESSES section of this document. Comments and materials received, including names and addresses of respondents, will be available for public review, by appointment, during normal business hours at the address in the ADDRESSES section above and will become part of the public record, pursuant to section 10(c) of the Act. Individual respondents may request that the Service withhold their home address from the record, which we will honor to the extent allowable by law. There also may be circumstances in which the Service would withhold from the record a respondent's identity, as allowable by law. If you wish the Service to withhold your name and/or address, you must state this prominently at the beginning of your comment. Anonymous comments will not be considered. All submissions from organizations or businesses, and from individuals identifying themselves as representatives or officials of organizations or businesses, are available for public inspection in their entirety.

The Service will evaluate this permit application, associated documents, and comments submitted thereon to determine whether the permit application meets the requirements of section 10(a) of the Act and NEPA regulations. If the Service determines that the requirements are met, we will sign the proposed Agreement and issue an enhancement of survival permit under section 10(a)(1)(A) of the Act to the Applicant for take of the bay checkerspot butterfly incidental to otherwise lawful activities in accordance with the terms of the Agreement. The Service will not make our final decision until after the end of the 30-day comment period and will fully consider all comments received during the comment period.

The Service provides this notice pursuant to section 10(c) of the Act and pursuant to implementing regulations for NEPA (40 CFR 1506.6).

Dated: January 24, 2008.
Susan K. Moore,
Field Supervisor, Sacramento Fish and Wildlife Office, Sacramento, California.

[FR Doc. E8-3420 Filed 2-22-08; 8:45 am]

BILLING CODE 4310-55-P